COMMITTEE FOR PURCHASE FROM PEOPLE WHO ARE BLIND OR SEVERELY DISABLED

Procurement List; Additions and Deletions

AGENCY: Committee For Purchase From People Who Are Blind Or Severely Disabled.

ACTION: Additions to and deletions from the Procurement List.

SUMMARY: This action adds a product and service to the Procurement List that will be furnished by nonprofit agencies employing persons who are blind or have other severe disabilities, and deletes products and services from the Procurement List previously furnished by such agencies.

DATES: Date added to the Procurement List: August 27, 2017.

ADDRESSES: Committee For Purchase From People Who Are Blind Or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 6/2/2017 (82 FR 25602), the Committee for Purchase From People Who Are Blind or Severely Disabled published notice of proposed addition to the Procurement List.

After consideration of the material presented to it concerning capability of qualified nonprofit agencies to provide the product and service and impact of the additions on the current or most recent contractors, the Committee has determined that the product and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 8501-8506) in connection with the product and service proposed for addition to the Procurement List.

End of Certification

Accordingly, the following product and service are added to the Procurement List:

Product

NSN(s)—Product Name(s): MR 13008—Melon Baller

Mandatory Source(s) of Supply: Cincinnati Association for the Blind, Cincinnati, OH

Mandatory for: The requirements of military commissaries and exchanges in accordance with the Code of Federal Regulations, 41 CFR 51-6.4

Contracting Activity: Defense Commissary Agency

Distribution: C-List

Service

Service Type: Custodial Service

Mandatory for: National Park Service, Golden Gate National Recreation Area, Fort Mason, Buildings 101, 201 and 204, San Francisco, CA

Mandatory Source(s) of Supply: Toolworks, Inc., San Francisco, CA

Contracting Activity: National Park Service, San Francisco, CA

Deletions

On 6/2/2017 (82 FR 25602), 6/9/2017 (82 FR 26780), and 6/16/2017 (82 FR 27698), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

FS1349B—Windbreaker, SCSEP, Forest Service, Dark/Green/Pantone, Various Sizes

FS509A—Vest, Forest Service, SCSEP, Various Sizes

FS240—Jeans, Field, Forest Service, Men's, Various Sizes

FS400—Pants, Field, Forest Service, Men's, Dark Green/Pantone, Wool, Various Sizes

FS326—Cap, Baseball, Forest Service, Dark Green/Pantone, Nylon Mesh, Various Sizes

FS521—Cap, SCSEP, Forest Service, Dark Green/Pantone, Nylon Mesh, Various Sizes

FS9552—Patches, Volunteer, Forest Service, Pkg. of 10

FS875—Nameplate, Forest Service, Law Enforcement, Gold Plated

8455-00-NSH-0012—Patches, Volunteer, Forest Service, Pkg. of 10

8455-00-NSH-0022—Nameplate, Forest Service, Law Enforcement, Gold Plated

8455-00-NSH-0023—Patch, Forest Service, Law Enforcement, Large

8455-00-NSH-0024—Patch, Forest Service, Law Enforcement, Small

Mandatory Source(s) of Supply: Human Technologies Corporation, Utica, NY

Contracting Activity: U.S. Forest Service, Washington Office

NSN(s)—Product Name(s): MR 1031—Rag, Cleaning, Red

Mandatory Source(s) of Supply: Winston-Salem Industries for the Blind, Inc., Winston-Salem, NC

Contracting Activity: Defense Commissary Agency

NSN(s)—Product Name(s): 7210-00-682-6504—Mattress, Foam

Mandatory Source(s) of Supply: Lions Volunteer Blind Industries, Inc., Morristown, TN

Contracting Activity: General Services Administration, Fort Worth, TX

NSN(s)—Product Name(s):

7510-01-431-6520—Foam Stamp Pad, Size #1, 2¾″ x 4¼″, Blue

7510-01-431-6528—Foam Stamp Pad, Size #3, 4½″ x 7½″, Blue

Mandatory Source(s) of Supply: Cattaraugus County Chapter, NYSARC, Olean, NY

Contracting Activity: General Services Administration, New York, NY

Services

Service Type: Grounds Maintenance Service

Mandatory for:

Eglin Air Force Base: Duke Field, Eglin, FL

Eglin Air Force Base: East of Memorial Trail (excluding the airfield), Eglin, FL

Eglin Air Force Base: Navy EOD, Eglin, FL

Eglin Air Force Base: Ranger Camp, Eglin, FL

Eglin Air Force Base: Site C-6, Eglin, FL

Mandatory Source(s) of Supply: PRIDE Industries, Roseville, CA

Contracting Activity: DEPT OF THE AIR FORCE, FA2823 AFTC P

Service Type: Administrative Service

Mandatory for: National Aeronautics and Space Administration: Marshall Space Flight Center, 4200 Complex, Marshall Space, AL

Mandatory Source(s) of Supply: The ARC of Madison County, Inc., Huntsville, AL

Contracting Activity: National Aeronautics and Space Administration, NASA Headquarters

Amy B. Jensen,
Director, Business Operations.

[FR Doc. 2017-15965 Filed 7-27-17; 8:45 am]

BILLING CODE 6353-01-P